DEPARTMENT OF INTERIOR

National Park Service

60-Day Notice of Intention To Request Clearance of Collection of Information; Opportunity for Public Comment

AGENCY: National Park Service, the Department of Interior.

ACTION: Notice and request for comments.

SUMMARY: Under the provisions of the Paperwork Reduction Act of 1995 (44 U.S.C. 3507 et seq.) and 5 CFR part 1320, the National Park Service (NPS) invites public comments on a submitted request to the Office of Management and Budget (OMB) to approve a revision of a currently approved collection (OMB# 1024-0038) associated with 36 CFR part 61, “Procedures for State, Tribal, and Local Government Historic Preservation Programs.” NPS intends to request a separate control number for those information collections associated with information collections related to Historic Preservation Fund grants to States. In addition, revision is needed because some information collections had not been recognized as such during preparation for earlier OMB approvals. Section 101(b) of the National Historic Preservation Act, as amended, (16 U.S.C. 470a(b)) specifies the role of States in the national historic preservation partnership program. Section 101(c), section 103(c), and section 301 of the Act (16 U.S.C. 470a(c), 16 U.S.C. 470c(c), and 16 U.S.C. 470w) specify the role of local governments in the national historic preservation partnership program. Section 101(d) of the Act (16 U.S.C. 470a(d)) specifies the role of tribes in the national historic preservation partnership program. All 59 States, territories, and the District of Columbia participate in the national historic preservation partnership program. More than 1,400 local governments have become Certified Local Governments (CLGs) in order to participate in the national historic preservation partnership program. Approximately 59 local governments become CLGs each year. NPS developed the information collections associated with 36 CFR part 61 in consultation with State, Tribal, and local government partners. The requirements/information collections are unchanged since the last approval by OMB.

DATES: To assure that the NPS considers your comments on this notice, NPS must receive the comments on or before September 7, 2004.

Send Comments To: John W. Renaud, Project Coordinator, State, Tribal and Local Programs, Heritage Preservation Services, National Center for Cultural Resources, National Park Service, 1849 C St., NW., Org. Code 2255, Washington, DC 20240-0001, via fax at 202-371-1961, or via e-mail at John_Renaud@nps.gov.

FOR FURTHER INFORMATION CONTACT: John W. Renaud, Project Coordinator, State, Tribal and Local Programs, Heritage Preservation Services, National Center for Cultural Resources, National Park Service, 1849 C St., NW., Org. Code 2255, Washington, DC 20240-0001, via fax at 202-371-1961, via e-mail at John_Renaud@nps.gov, or via telephone at (202) 354-2066.

SUPPLEMENTARY INFORMATION: Title: 36 CFR Part 61, Procedures for State, Tribal, and Local Government Historic Preservation Programs.

OMB Number: 1024-0038.

Expiration Date of Approval: July 31, 2004.

Type of Request: Revision of a currently approved collection.

Abstract: This information collection has an impact on State, tribal, and local governments that wish to participate formally in the national historic preservation. The National Park Service uses the information collections to ensure compliance with the National Historic Preservation Act, as amended (16 U.S.C. 470 et seq.). This information collection also will produce performance data that NPS uses to assess its progress in meeting goals set in Departmental and NPS strategic plans created pursuant to the 1993 Government Performance and Results Act, as amended. This request for OMB approval includes local government burden for information collections associated with various aspects of the Certified Local Government (CLG) program. This request for OMB approval includes State government burden for information collections related to the CLG program, maintenance of a State inventory of historic and prehistoric properties, tracking State Historic Preservation Office historic preservation consultation with Federal agencies, and the State role in the State Program Review Process.

Respondents: State and local governments.

Estimate of Burden: NPS estimates that the total public (State plus local) burden for the Certified Local Government (CLG) program averages 40.8 hours per CLG for the certification, monitoring, and evaluation process. NPS estimates that the burden averages 0.5 hours per inventory record, 0.8 hours per Federal agency project tracked, and 90 hours per State Program Review. The combined total public burden for the 36 CFR Part 61-related information collections would average 132 hours per partner. These estimates of burden include time for reviewing instructions, searching existing data sources, gathering and maintaining the data needed, and reviewing the collection of information.

Estimated Number of Respondents/Record Keepers: NPS estimates that there are 34,136 responses per year. This is the gross number of responses for all of the elements included in this information collection. The net numbers of partners participating in this information collection annually are 59 States and more than 1,400 CLGs. The frequency of response varies depending upon the activity. In the CLG program, States and local governments participate once for the certification process, once per year for the monitoring of each CLG, and once every four years for the evaluation of each CLG. Each State adds property records to its inventory and tracks the progress of consultation with Federal agencies as the information becomes available. The National Historic Preservation Act requires that each State undergo a State Program Review every four years.

Estimated average number of State and local CLG responses per State/CLG: 39 annually.

Estimated average gross number State and local CLG responses for all States/CLGs: 3,624 annually.

Estimated average minimum number of State inventory responses per State: 159 annually.

Estimated average gross minimum number of State inventory responses for all States: 8,904 annually.

Estimated average minimum number of State consultation on Federal projects responses per State: 366 annually.

Estimated average gross minimum number of State consultation of Federal projects responses for all States: 21,594 annually.

Estimated average minimum number of State Program Reviews per State: 1 annually.

Estimated average gross minimum number of State Program Reviews for all States: 14 annually.

Estimated average gross number of responses all collections: 34,136 annually.

Estimated average burden hours in the CLG program per response: 6.8 hours.

Estimated average burden hours in the State inventory program per response: 0.5 hours.

Estimated average burden hours in the Federal agency consultation tracking program per response: 0.8 hours.

Estimated average burden hours in the State Program Review program per response: 90 hours.

Estimated average annual burden hours per partner for all responses: 14.7 hours.

Estimated Annual Burden on all Respondents: 47,943 hours.

NPS is soliciting comments regarding:

(1) Whether the collection of information is necessary for the proper performance of the functions of NPS, including whether the information will have practical utility;

(2) The accuracy of the burden estimate including the validity of the method and assumptions used;

(3) Ways to enhance the quality, utility, and clarity of the information to be collected;

(4) Ways to minimize the burden of collecting the information, including through the use of appropriate automated, electronic, mechanical, or other forms of information technology; or,

(5) Any other aspect of this collection of information.

NPS will summarize and include in the request for OMB approval all responses to this notice. All comments will also become a matter of public record. You can obtain copies of the information collection from John W. Renaud, Project Coordinator, State, Tribal and Local Programs, Heritage Preservation Services, National Center for Cultural Resources, National Park Service, 1849 C St., NW., Org. Code 2255, Washington, DC 20240-0001

Dated: May 20, 2004.
Leonard E. Stowe,
Acting, Information Collection Clearance Officer, National Park Service, WAPC.

[FR Doc. 04-15576 Filed 7-8-04; 8:45 am]

BILLING CODE 4312-52-M